DEPARTMENT OF HOMELAND SECURITY

Transportation Security Administration

49 CFR Part 1572

[Docket No. TSA-2006-24191]

RIN 1652-AA41

Transportation Worker Identification Credential Fees

AGENCY: Transportation Security Administration, DHS.

ACTION: Rule.

SUMMARY: The Department of Homeland Security (DHS), through the Transportation Security Administration (TSA) and the U.S. Coast Guard, published a final rule on January 25, 2007 that establishes requirements for merchant mariners and workers who need unescorted access to secure areas of maritime facilities and vessels. These individuals must successfully complete a security threat assessment conducted by TSA and hold a Transportation Worker Identification Credential (TWIC) in order to enter secure areas without escort. As required by statute, all TWIC applicants must pay a user fee to cover TSA's costs to enroll applicants, complete security threat assessments, and issue biometric credentials. With this notice, we announce the user fees as follows: The total standard fee for a TWIC applicant is $137.25 and the reduced fee for applicants who have completed a prior comparable threat assessment is $105.25.

DATES: Effective March 20, 2007.

FOR FURTHER INFORMATION CONTACT: Christine Beyer, Office of the Chief Counsel, TSA-2, Transportation Security Administration, 601 South 12th Street, Arlington, VA 22202-4220; telephone (571) 227-2657; facsimile (571) 227-1380 e-mail Christine.Beyer@dhs.gov.

SUPPLEMENTARY INFORMATION:

Background

The Department of Homeland Security, through TSA and the U.S. Coast Guard, published a final rule on January 25, 2007 ¹ that establishes requirements for merchant mariners and workers who need unescorted access to secure areas of maritime facilities and vessels. These individuals must successfully complete a security threat assessment conducted by TSA and hold a TWIC that TSA issues in order to enter secure areas without escort.

¹ 72 FR 3492.

As required by sec. 520 of the 2004 DHS Appropriations Act, Pub. L. 108-90, TSA must collect user fees to cover the costs of implementing the TWIC program, including the cost to enroll all applicants, complete security threat assessments, provide an appeal and waiver process, and issue biometric credentials.

As stated in the final rule,² the fee is made up of three segments: Enrollment Segment; Full Card Production/Security Threat Assessment Segment; and FBI Segment. Most applicants will pay the Standard TWIC Fee, which includes all three segments. However, applicants who have completed a comparable threat assessment, such as the threat assessment TSA conducts on commercial drivers with a hazardous materials endorsement, will pay the Reduced TWIC Fee. These applicants are not charged for the FBI Segment and pay a reduced fee for the Full Card Production/Security Threat Assessment Segment.

² 72 FR 3506.

In the preamble of the final rule, we discussed the potential range of fees that would be charged for each Segment but did not publish specific fees for each Segment in the final rule text because the contract for enrollment and card production services was not finalized at that time. We explained that when the contract was executed and final fee amounts determined, we would publish a notice in the Federal Register announcing them. TSA has executed the contract for TWIC enrollment and card production and, with this notice, announces the final fee amounts. The Enrollment Segment fee is $43.25, the Full Card Production/Security Threat Assessment Segment fee is $72, and the FBI Segment fee is $22. Therefore, the total Standard TWIC Fee is $137.25 ($43.25 + 72 + 22). For applicants who have completed a prior comparable threat assessment, there is no FBI Segment fee and the Card Production/Security Threat Assessment Segment fee is $62. Therefore, the total Reduced TWIC Fee is $105.25 ($43.25 + 62).

As stated in the final rule, the fee for a replacement credential is $36, but we do not believe that amount adequately funds TSA's card replacement costs. Our calculations indicate that $60 is the correct amount for card replacement costs and invited comment on that issue.³ The comment period for increasing the card replacement fee closed on February 26, 2007. We will examine all comments received and determine the final card replacement fee. We will amend the rule text to include all of the fees discussed in this notice and the card replacement fee, so that they will appear in the Code of Federal Regulations, at 49 CFR 1572, subpart F, Fees for Security Threat Assessments for Transportation Worker Identification Credential (TWIC).

³ 72 FR 3507-3508.

Issued in Arlington, Virginia, on March 14, 2007.
Kip Hawley,
Assistant Secretary, Transportation Security Administration.

[FR Doc. 07-1328 Filed 3-19-07; 8:45 am]

BILLING CODE 9110-05-P